DEPARTMENT OF COMMERCE

National Oceanic and Atmospheric Administration

[I.D. 090297A]

Endangered and Threatened Species; Amendment to Permit 1056

AGENCY: National Marine Fisheries Service (NMFS), Commerce.

ACTION: Issuance of an amendment to scientific research permit 1056.

SUMMARY: NMFS has issued a permit amendment to the Fish Ecology Division of the Northwest Fisheries Science Center, NMFS, at Seattle, WA (NWFSC).

DATES: Written comments on the amended permit application must be received no later than 5 p.m. Pacific standard time on February 21, 2002.

ADDRESSES: Written comments on the application should be sent to Protected Resources Division (PRD), F/NWO3, 525 NE Oregon Street, Suite 500, Portland, OR 97232-2737. Comments may also be sent via fax to 503-230-5435. Comments will not be accepted if submitted via e-mail or the internet.

FOR FURTHER INFORMATION CONTACT: Robert Koch, Portland, OR (503-230-5424; fax: 503-230-5435; e-mail: robert.koch@noaa.gov).

SUPPLEMENTARY INFORMATION: The following species and evolutionary significant units (ESUs) are covered in this notice:

Chinook salmon (Oncorhynchus tshawytscha): threatened, naturally produced and artificially propagated, Snake River (SnR) spring/summer.

Permit Amendment Issued

Permit 1056 authorizes NWFSC annual takes of adult and juvenile, threatened, naturally produced and artificially propagated SnR spring/summer chinook salmon. These takes are associated with two scientific research studies conducted in various tributaries of the Salmon River in Idaho, the Grande Ronde River in Oregon, and the Imnaha River in Oregon. The objective of Study 1 is to characterize the run-timing of naturally produced chinook salmon over a period of years to determine whether consistent patterns are apparent and to use this information for real-time management decisions regarding water allocation during the smolt outmigrations. The long-term objectives of Study 2 are to monitor the nature and extent of genetic change over time in supplemented and unsupplemented populations and to correlate the genetic changes with measures of productivity. For the permit amendment, permit 1056 has been extended to expire on April 30, 2002. Permit 1056 was due to expire on December 31, 2001. The extension is necessary to allow NWFSC scientists to continue their research activities in 2002 while NMFS completes a new section 7 consultation on the issuance of ESA section 10(a)(1)(A) permits for takes of threatened SnR spring/summer chinook salmon for scientific research purposes.

Dated: January 15, 2002.
Margaret Lorenz,
Acting Chief, Endangered Species Division, Office of Protected Resources, National Marine Fisheries Service.

[FR Doc. 02-1530 Filed 1-18-02; 8:45 am]

BILLING CODE 3510-22-S